DEPARTMENT OF HOMELAND SECURITY

Coast Guard

[Docket No. USCG-2016-0724]

Commercial Fishing Safety Advisory Committee; Vacancies

AGENCY: Coast Guard, Department of Homeland Security.

ACTION: Request for applications.

SUMMARY: The Coast Guard seeks applications for membership on the Commercial Fishing Safety Advisory Committee. The Commercial Fishing Safety Advisory Committee provides advice and makes recommendations to the Coast Guard and the Department of Homeland Security on various matters relating to the safe operation of commercial fishing industry vessels. Applicants selected for service on the Commercial Fishing Safety Advisory Committee via this solicitation will not begin their respective terms until May 2017.

DATES: Completed applications should reach the Coast Guard on or before October 18, 2016.

ADDRESSES: Applicants should send a cover letter expressing interest in an appointment to the Commercial Fishing Safety Advisory Committee that identifies which membership category the applicant is applying under, along with a resume detailing the applicant's related experience for that category via one of the following methods:

• By mail: Commandant (CG-CVC), Attn: Fishing Vessel Safety, U.S. Coast Guard Stop 7501, 2703 Martin Luther King Jr. Ave. SE., Washington, DC 20593-7501.

• By fax: 202-372-8377, ATTN: Mr. Jack Kemerer.

• By email: jack.a.kemerer@uscg.mil.

FOR FURTHER INFORMATION CONTACT: Mr. Jack Kemerer, Alternate Designated Federal Officer, telephone at 202-372-1249, fax at 202-372-8377, or email at jack.a.kemerer@uscg.mil.

SUPPLEMENTARY INFORMATION: The Commercial Fishing Safety Advisory Committee is a federal advisory committee established in accordance with the Federal Advisory Committee Act, (Title 5, U.S.C. Appendix). The Coast Guard chartered the Commercial Fishing Safety Advisory Committee to provide advice on issues related to the safety of commercial fishing industry vessels regulated under chapter 45 of title 46, United States Code, which includes uninspected fish catching vessels, fish processing vessels, and fish tender vessels. (See 46 U.S.C. 4508.)

The Commercial Fishing Safety Advisory Committee meets at least once a year. It may also meet for other extraordinary purposes. Its subcommittees or working groups may communicate throughout the year to prepare for meetings or develop proposals for the committee as a whole to address specific tasks.

Each member serves for a term of three years. An individual may be appointed to a term as a member more than once, but not more than two terms consecutively. All members serve at their own expense and receive no salary from the Federal Government, although travel reimbursement and per diem may be provided for called meetings.

The Coast Guard will consider applications for five (05) positions that expire or become vacant in May 2017 in the following categories:

(a) Individuals who represent the Commercial Fishing Industry (two positions);

(b) An individual who represents the General Public (one position), particularly an independent expert or consultant in maritime safety;

(c) An individual who represents education or training professionals related to fishing vessel, fish processing vessel, or fish tender vessel safety, or personnel qualifications (one position).

(d) An individual who represents underwriters that insure commercial fishing industry vessels (one position).

If you are selected as a member who represents the general public, you will be appointed and serve as a Special Government Employee as defined in section 202(a) of Title 18, U.S.C. As a candidate for appointment as a Special Government Employee, applicants are required to complete a Confidential Financial Disclosure Report (OGE Form 450). The Coast Guard may not release the reports or the information in them to the public except under an order issued by a Federal court or as otherwise provided under the Privacy Act (5 U.S.C. 552a). Only the Designated Coast Guard Ethics Official or his or her designee may release a Confidential Financial Disclosure Report. Applicants can obtain this form by going to the Web site of the Office of Government Ethics (www.oge.gov), or by contacting the individual listed in FOR FURTHER INFORMATION CONTACT. Applications for a member who represents the general public which are not accompanied by a completed OGE Form 450 will not be considered.

Registered lobbyists are not eligible to serve on federal advisory committees in an individual capacity. See “Revised Guidance on Appointment of Lobbyist to Federal Advisory Committees, Boards, and Commissions” (79 CFR 47482, August 13, 2014). The position we list for a member who represents the general public would be someone appointed in their individual capacity and would be designated as a Special Government Employee as defined in 202(a), Title 18, U.S.C. Registered lobbyists are lobbyists as defined in 2 U.S.C. 1602 who are required by 2 U.S.C 1603 to register with the Secretary of the Senate and Clerk of the House Representatives.

The Department of Homeland Security does not discriminate in selection of Committee members on the basis of race, color, religion, sex, national origin, political affiliation, sexual orientation, gender identity, marital status, disability and genetic information, age, membership in an employee organization, or any other non-merit factor. The Department of Homeland Security strives to achieve a widely diverse candidate pool for all of its recruitment actions.

If you are interested in applying to become a member of the Committee, send your cover letter and resume to Mr. Jack Kemerer, Commercial Fishing Safety Advisory Committee Alternate Designated Federal Officer, via one of the transmittal methods in the ADDRESSES section by the deadline in the DATES section. All email submittals will receive an email receipt confirmation.

Dated: August 15, 2016.
V.B. Gifford,
Captain, U.S. Coast Guard, Director of Inspections and Compliance.

[FR Doc. 2016-19805 Filed 8-18-16; 8:45 am]

BILLING CODE 9110-04-P